DEPARTMENT OF AGRICULTURE

National Agricultural Statistics Service

Submission for OMB Review; Comment Request

January 13, 2016.

The Department of Agriculture has submitted the following information collection requirement(s) to OMB for review and clearance under the Paperwork Reduction Act of 1995, Public Law 104-13. Comments are requested regarding: (1) Whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by February 18, 2016 will be considered. Written comments should be addressed to: Desk Officer for Agriculture, Office of Information and Regulatory Affairs, Office of Management and Budget (OMB), New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Local Food Marketing Practices Survey

OMB Control Number: 0535-NEW

Summary of Collection: Data will be collected under the authority of 7 U.S.C. 2204(a). Section 10016(a)(1)(A) of the 2014 Farm Bill (Public Law 113-79) directs the Department of Agriculture (USDA) to collect data on “the production and marketing of locally or regionally produced agricultural food products,” while Section 10016(b)(2) requires USDA to “conduct surveys and analysis and publish reports relating to the production, handling, distribution, retail sales, and trend studies. . . of or on locally or regionally produced agricultural food products.” The survey will gather data on production, risk management, and marketing practices. Contingent upon the availability of funding, the Local Foods Survey will be a Census follow-on-survey.

Need and Use of the Information: A growing interest in support of local agricultural economies through the purchase of foods from sources that are geographically close to the consuming areas, via channels that are direct from farm to consumer or at most one step removed. The institution of the USDA Know Your Farmer, Know Your Food Initiative was designed to eliminate organizational barriers to improve coordination and availability of resources for the promotion of local food systems. The primary purpose of the survey is to produce benchmark statistics on the number of operations that produce local foods, the value of local foods sales (in total and by specific marketing channel), and marketing practices and expenses. Farms in all 50 states will be asked to provide these data. Statistics from this survey will be used by state agencies to better understand, support, and promote their local food markets, as well as by researchers studying local foods.

Description of Respondents: Farmers and Ranchers.

Number of Respondents: 28,000.

Frequency of Responses: Reporting: Annually.

Total Burden Hours: 21,000.

Charlene Parker,
Departmental Information Collection Clearance Officer.

[FR Doc. 2016-00914 Filed 1-15-16; 8:45 am]

BILLING CODE 3410-20-P